DEPARTMENT OF HOUSING AND URBAN DEVELOPMENT

[Docket No. FR-5901-N-01]

Notice of Intent To Prepare an Environmental Impact Statement (EIS) For the East Side Coastal Resiliency Project, City of New York, NY

AGENCY: Office of the Assistant Secretary for Community Planning and Development, HUD.

ACTION: Notice of Intent to Prepare an EIS.

SUMMARY: The U.S. Department of Housing and Urban Development (HUD) gives notice that the City of New York (the City), through its Office of Management and Budget (OMB), as the “Responsible Entity,” as that term is defined by 24 CFR 58.2(a)(7)(i), and as the Lead Agency in accordance with the requirements of the National Environmental Policy Act (NEPA), intends to prepare an Environmental Impact Statement (EIS) that will evaluate the environmental and social impacts of alternatives that are being proposed to improve coastal and social resiliency by installing an integrated flood protection system on the East Side of Southern Manhattan between Montgomery Street on the south and East 23rd Street on the north (with an alternative that extends to East 25th Street). Such measures would be designed to address the impacts of coastal flooding on the quality of the human environment due to both storm hazards and sea level rise. The City, through OMB, is the Grantee of Community Development Block Grant Disaster Recovery (CDBG-DR) funds that have been appropriated under the Disaster Relief Appropriations Act, 2013 (Pub. L. 113-2, approved January 29, 2013) related to disaster relief, long-term recovery, restoration of infrastructure and housing, and economic revitalization in the most impacted and distressed areas resulting from a major disaster that was declared pursuant to the Robert T. Stafford Disaster Relief and Emergency Assistance Act of 1974 (Stafford Act) in calendar years 2011, 2012, and 2013. This project includes funds that were awarded as the “BIG U” as part of HUD's Rebuild by Design competition.

The proposed EIS will address the environmental review requirements of NEPA, the New York State Environmental Quality Review Act (SEQRA) (6 NYCRR Part 617), and the New York City Environmental Quality Review (CEQR). This Notice of Intent to prepare an EIS is therefore, being published in accordance with the Council on Environmental Quality (CEQ) regulations found at 40 CFR parts 1500-1508 and HUD regulations found at 24 CFR part 58 and is announcing that a public scoping process on the EIS is commencing.

DATES: Comments on the Draft Scope of Work to prepare a Draft EIS are requested by this notice and will be accepted until December 21, 2015.

ADDRESSES: Comments on the Draft Scope of Work to prepare a Draft EIS are requested by this notice and will be accepted by the individual named in this notice under the heading FOR FURTHER INFORMATION CONTACT. Comments will also be accepted at the joint NEPA/SEQRA/CEQR scoping meeting to be held on December 3, 2015. All comments received by December 21, 2015 will be considered prior to the acceptance, certification, and distribution of the Draft EIS by the Lead Agencies. Commenters are also asked to submit any information related to reports or other environmental studies planned or completed in the project area and major issues that the Draft EIS should consider, and recommend mitigation measures and alternatives associated with the Proposed Action. Federal agencies having jurisdiction by law, special expertise, or other special interest should report their interest and indicate their readiness to aid in the EIS effort as a “Cooperating Agency.” The following federal agency has thus far expressed intent to participate as a Cooperating Agency: The United States Army Corps of Engineers (USACE). Written requests of individuals and organizations to participate as Section 106 Consulting Parties may also be made to the individual named in this notice under the heading FOR FURTHER INFORMATION CONTACT.

The public and agencies will also be offered an opportunity to comment on the purpose and need, range of alternatives, level of detail, methodologies, and all elements of the Draft Scope of Work through public and agency outreach that will consist of: A public scoping meeting (described below); a public hearing on the Draft EIS; meetings with the applicable Cooperating, Involved, and Interested Agencies; and meetings with Section 106 Consulting Parties, including federally recognized Indian tribes. Once completed and released, the Draft EIS will be available for public and agency review and comment.

Following the public scoping process, a Draft EIS will be prepared that analyzes the Proposed Action. Once the Draft EIS is certified as complete, a notice will then be sent to appropriate government agencies, groups, and individuals known to have an involvement or interest in the Draft EIS and particularly in the environmental impact issues identified therein. A Notice of Availability of the DEIS will be published in the Federal Register and local media outlets at that time in accordance with HUD and CEQ regulations. Any person or agency interested in receiving notice and commenting on the Draft Scope of Work or Draft EIS should contact the individual named in this notice under the heading FOR FURTHER INFORMATION CONTACT no later than December 21, 2015.

With OMB serving as the Lead Agency, the EIS will be prepared in accordance with NEPA, CEQ regulations found at 40 CFR parts 1500-1508, and HUD regulations found at 24 CFR part 58. In accordance with 42 U.S.C. 5304(g) and HUD's regulations found at 24 CFR part 58 (Environmental Review Procedures for Entities Assuming HUD Environmental Responsibilities), HUD has provided for assumption of its NEPA authority and NEPA lead agency responsibility by OMB for the purposes of administering the CDBG-DR Program in New York City. The EIS will also comply, as necessary, with Section 106 of the National Historic Preservation Act, the Clean Water Act, Executive Order 12898, “Federal Actions to Address Environmental Justice in Minority Populations and Low-Income Populations,” Executive Order 11990, “Protection of Wetlands,” and other applicable federal, State, and local laws and regulations. (The New York City Department of Parks & Recreation (DPR) will be the Lead Agency for the SEQRA and CEQR processes, which will be coordinated with the NEPA requirements.)

FOR FURTHER INFORMATION CONTACT: Further information and a copy of the Draft Scope of Work may be obtained by contacting Calvin Johnson, Assistant Director CDBG-DR, OMB, 255 Greenwich Street, 8th Floor, New York, New York 10007,or via email at CDBGDR-enviro@omb.nyc.gov. The Draft Scope of Work is also available on http://www.nyc.gov/html/cdbg/html/home/home.shtml.

SUPPLEMENTARY INFORMATION:

Background

The City of New York, acting through OMB, under the authority of HUD's regulations at 24 CFR Part 58, and in cooperation with other Cooperating, Involved, and Interested agencies, is proposing to prepare an EIS that will analyze the potential environmental and social effects of alternatives that are being proposed to improve coastal and social resiliency and reduce coastal flooding impacts on the East Side of Southern Manhattan. This project was awarded $335 million in funds as the “BIG U” as part of HUD's Rebuild by Design competition.

The Hurricane Sandy Rebuilding Task Force launched Rebuild by Design in June 2013, a multi-stage regional design competition to promote resilience for the Sandy-affected region. HUD conducted the competition under the authority of the America COMPETES Reauthorization Act of 2010, and administered the competition in partnership with philanthropic, academic, and nonprofit organizations. The goal of the competition was two-fold: To promote innovation by developing regionally-scalable but locally-contextual solutions that increase resilience in the region, and to implement selected proposals with both public and private funding dedicated to this effort. The competition represented a policy innovation as HUD set aside CDBG-DR funding specifically to incentivize implementation of winning projects and proposals. The competition process aimed to strengthen understanding of regional interdependencies, fostering coordination and resilience both at the local level and across the U.S. For more information on the competition, please visit: http://www.rebuildbydesign.org/.

Hurricane Sandy significantly impacted the East Side of Manhattan, including the proposed project area (defined above), highlighting existing deficiencies in the City's resiliency and ability to adequately protect vulnerable populations and critical infrastructure from flooding during major storm events. These impacts included extensive inland flooding due to tidal surge with extensive damage to residential and commercial property, impacts to critical health care facilities, and the failure of critical power, transportation, and water and sewer infrastructure. Addressing the vulnerability of the proposed project area to coastal storms and protecting critical infrastructure and resources in light of the likelihood of more frequent and intense flood events is essential to the City's resiliency planning and would align with the Coastal Protection Initiatives as described in the City's A Stronger, More Resilient New York report and the goals in the City's One New York: The Plan for a Strong and Just City (OneNYC) plan (available at: http://www.nyc.gov/html/onenyc/downloads/pdf/publications/OneNYC.pdf). Moreover, urban design features integrated to the proposed flood protection system would enhance access to open spaces along the East River waterfront. The EIS will examine several alternatives aimed at achieving these objectives.

Purpose and Need of the Proposed Action

The Proposed Action consists of the installation of an integrated flood protection system on the East Side of Southern Manhattan between Montgomery Street on the south and East 23rd Street on the north for the purposes of reducing flood hazards, protecting a diverse and vulnerable residential population, and safeguarding critical energy, infrastructure, commercial, and transportation assets. Consistent with the City's Coastal Protection Initiatives, the principal goals and objectives of the Proposed Action are:

• Provide a reliable flood protection system for the flood hazard area that lies between East 23rd Street on the north and Montgomery Street on the south;

• Improve access to, and enhance open space resources along the waterfront, including East River Park and Stuyvesant Cove Park;

• Respond quickly to the urgent need for increased flood protection and resiliency, particularly for vulnerable communities within the flood hazard area; and

• Achieve implementation milestones and project funding allocations as established by HUD.

Project Alternatives

The Proposed Action is composed of two project areas, Project Area One and Project Area Two. Project Area One extends south from Cherry Street along Montgomery Street to Pier 42 and continues north along the waterfront to East 13th Street. Project Area Two extends from East 13th Street north to East 23rd Street and then west along East 23rd Street to First Avenue. The EIS will discuss the alternative designs for these project areas that were considered for analysis, identify those that were eliminated from further consideration because they do not meet the stated purpose and need, and identify those that will be analyzed further. It is expected that project alternatives will continue to be developed and refined during the public scoping process, with input from the public, agencies, and other stakeholders. The EIS alternatives analysis will consist of a comparison of the impacts under each alternative pursuant to 24 CFR Part 58, as well as how well each alternative achieves the Proposed Action's purpose and need. This process, which will be described in detail in the EIS, will lead to the designation of a Preferred Alternative. At this time, it is anticipated that the following alternatives will be analyzed.

1. No Action Alternative

The No Action Alternative assumes that no flood control measures are installed in the proposed project area and that current trends relating to impacts from coastal storms and sea level rise will continue. The No Action Alternative will also assume that Con Edison would continue any planned resiliency projects at its East 14th Street generating station and substations, that Pier 42 at Montgomery Street would continue to be reconstructed as a public open space, that the Houston Street bridge over the FDR Drive would be reconstructed as is currently proposed by the New York City Department of Transportation, and that a number of other projects would be implemented both within and near the proposed project area through the 2022 analysis year.

2. Flood Protection With Park Improvements Alternative

To ensure that a flood protection system is feasible and meets the project's purpose and need, various design options for integrated flood protection and enhanced waterfront open space and connections were developed. One of these alternatives is the Flood Protection System with Park Improvements Alternative. This alternative meets the flood protection objectives of the Proposed Action using a combination of integrated flood protection systems that include engineered berms, floodwalls, deployables and drainage improvements, which is expected to include the following.

• Engineered berms (also referred to as a “bridging berm”). Engineered berms elevate the existing topography as a line of flood protection and, therefore, require a wider space in order to be installed. They are typically constructed of a compacted fill material core, capped by stiff clay to withstand storm waves, with a stabilizing landscaped cover. These berms can be integrated into a park setting and are also considered adaptable to future design needs. Floodwalls (see below) are also used in conjunction with a berm at locations where there are horizontal space limitations. In certain reaches of Project Area One, berms are also combined with neighborhood connections across the FDR Drive to create “bridging berms” that provide the dual benefit of improved neighborhood access with flood protection. Engineered berms are proposed to be used for flood protection within East River Park in Project Area One and within Stuyvesant Cove Park in Project Area Two.

• Floodwalls. Floodwalls are narrow, vertical flood protection structures with a below-grade foundation that are designed to withstand both storm surge and waves. They are typically constructed of steel, reinforced concrete, or a combination of materials, with a reinforced concrete cap, and can be integrated as a design feature into a park setting. Floodwalls can be used where there are horizontal space limitations and when there is a design objective to protect existing recreational facilities by narrowing the footprint of the flood protection system. Floodwalls are proposed to be used as flood protection (in combination with berms) along the interior limits of East River Park in Project Area One (adjacent to the FDR Drive) and along the west (or inland) side of the FDR Drive between about East 13th and East 18th Streets in Project Area Two.

• Deployable Systems. It is necessary in many flood protection systems to provide an opening to accommodate day-to-day vehicular or pedestrian circulation along a street or sidewalk, for example. In these instances, deployable systems are used. There are several types of deployable system choices, including swing gates, roller gates, crest gates, and demountable gates. The type of system to be used depends upon a number of factors that include length of the opening that is required. With the Proposed Action, deployable systems are proposed as flood protection along inland streets and sidewalk crossings including the FDR Drive main line and ramps in both Project Area One and Project Area Two, and along East 23rd and East 25th Streets in Project Area Two.

• Sewer System Improvements. An evaluation of the need for modifications to the existing City sewer system will be undertaken to determine the resiliency needs of the proposed project area with respect to the operation of the sewer system during a storm event. Related improvements may include installing gates on sewer interceptors, flood-proofing regulators and manholes, and other improvements that address drainage service during a storm condition as may evolve during the project review.

The Flood Protection with Park Improvements Alternative incorporates a combination of these systems to achieve the flood protection objectives of the Proposed Action, and includes park improvements in East River Park and the reconstruction of Stuyvesant Cove Park. In East River Park, an integrated combination of walls and landscaped berms would be used; the landscaped berms would include enhanced passive spaces, and the existing bikeway and walkway through the park would be reconstructed. In Stuyvesant Cove Park, a berm system would be installed with a reconstructed bikeway and walkway.

Two Additional Project Alternatives

Another alternative for analysis is a Flood Protection System with Park and Neighborhood Connection Improvements. This alternative would also achieve the flood protection objectives of the Proposed Action, but would provide additional park amenities and neighborhood connections including a meandering bikeway and walkway, redesign of several pedestrian bridges, and more extensive landscaped features in East River Park. It would also include the reconstruction of Stuyvesant Cove Park. Key elements of this alternative include enhancing the pedestrian bridges at Delancey, East 6th, and East 10th Streets.

Alternatives will continue to be developed and refined during the EIS scoping process with input and consultation from local, state, and federal agencies that are either involved, interested, or cooperating in this environmental review process. These agencies include, but are not limited to, the New York City Departments of Transportation and Environmental Protection, the New York State Departments of Transportation and Environmental Conservation, and the U.S. Army Corps of Engineers along with input provided by non-agency stakeholders and the general public. It is expected that each of the alternatives selected for analysis in the Draft EIS will include the essential flood protection measures described above, in differing configurations, and with alternative approaches to upland drainage, providing park enhancements and neighborhood connectivity. Each alternative will also incorporate approaches for managing upland drainage, including infrastructure improvements that would address combined sanitary and stormwater drainage and maintain sewer system operations during a storm event.

Elements Common to Proposed Action Alternatives

Each of the Proposed Action alternatives would also require water main, sewer, and utility relocations and drainage improvements, an operations and maintenance plan, utility and lighting plans, connections to other flood protection structures (e.g., the protection systems at the Con Edison East River Generating Facility and the United States Department of Veterans Affairs Medical Center on East 23rd Street), and the repair and replacement of parkland and streets affected by construction. Construction activities may also require improvements to waterfront structures, temporary mooring facilities, and limited dredging along the East River to provide barge access during construction.

Need for the EIS

The Proposed Action described above has the potential to significantly affect the quality of the environment and an EIS will therefore be prepared in accordance with the requirements of NEPA, SEQRA, and CEQR. Responses to this notice will be used to (1) determine significant environmental issues; (2) assist in developing a range of alternatives to be considered; (3) identify issues that the EIS should address; and (4) identify agencies and other parties that will participate in the EIS process and the basis for their involvement.

Scoping

A joint NEPA/SEQRA/CEQR public scoping meeting on the Draft Scope of Work to prepare the Draft EIS will be held on December 3, 2015 at 7:00 p.m. at Bard High School Early College, 525 East Houston Street, New York, NY 10002. As noted above, the Draft Scope of Work is available online at: http://www.nyc.gov/html/cdbg/html/home/home.shtml. The public scoping meeting location will be accessible to the mobility-impaired. Interpreter services will be available for the hearing or visually impaired upon advance request. The EIS public scoping meeting will provide an opportunity for the public to learn more about the Proposed Action and provide input to the environmental review process. At the meeting, an overview of the Proposed Action and its alternatives will be presented and members of the public will be invited to comment on the Draft Scope of Work, including the methodologies to be used in developing the environmental analyses in the EIS. Written comments and testimony concerning the Draft Scope of Work will be accepted at this meeting. In accordance with 40 CFR 1501.7, affected Federal, State, and local agencies, any affected Indian tribes, and other interested parties will be sent a scoping notice. In accordance with 24 CFR 58.59, the scoping meeting will be preceded by a notice of public meeting published in the local news media at least 15 days before the hearing date.

Probable Environmental Effects

The EIS will evaluate potential effects from the Proposed Action on: Land Use, Zoning, and Public Policy; Socioeconomic Conditions; Environmental Justice; Open Space; Historic and Cultural Resources; Urban Design and Visual Resources; Natural Resources; Hazardous Materials; Water and Sewer Infrastructure; Transportation; Greenhouse Gases and Climate Change; Public Health; Neighborhood Character; Construction; and Cumulative Effects.

Questions may be directed to the individual named in this notice under the heading FOR FURTHER INFORMATION CONTACT.

Dated: November 13, 2015.
Harriet Tregoning,
Principal Deputy Assistant, Secretary for Community Planning and Development.

[FR Doc. 2015-29464 Filed 11-16-15; 8:45 am]

BILLING CODE 4210-67-P